DEPARTMENT OF TRANSPORTATION

Maritime Administration

[Docket Number MARAD-2023-0163]

Request for Information: Center for Maritime Innovation

AGENCY: Maritime Administration (MARAD), Department of Transportation (DOT).

ACTION: Notice.

SUMMARY: This notice requests information from the public to assist MARAD in determining how best to organize and structure a Center for Maritime Innovation (the “Center”). MARAD authority in this area provides the Center to support the study, research, development, assessment, and deployment of emerging marine technologies and practices related to the maritime transportation system. MARAD is seeking comments and information on the qualities, competencies, and costs required for the functioning of such a Center; its structure and organization; and suggestions and experiences establishing this kind of secretariat.

DATES: Comments must be received on or before October 2, 2023. MARAD will consider comments filed after this date to the extent practicable.

ADDRESSES: Your comments should refer to DOT Docket Number MARAD-2023-0163 and may be submitted by any of the following methods:

• Federal eRulemaking Portal: www.regulations.gov. Search “MARAD-2023-0163” and follow the instructions for submitting comments.

• Mail/Hand-Delivery/Courier: Docket Management Facility; U.S. Department of Transportation, 1200 New Jersey Avenue SE, Room W12-140, Washington, DC 20590. If you would like to know that your comments reached the facility, please enclose a stamped, self-addressed postcard or envelope. The Docket Management Facility is open 9:00 a.m. to 5:00 p.m. E.T., Monday through Friday, except on Federal holidays.

To avoid duplication, please use only one of the above methods. See the “Public Participation” section below for instructions on submitting comments.

Unless there is a request for confidential treatment, all comments received will be posted without change to the docket at www.regulations.gov, including any personal information provided.

You may view the public comments at www.regulations.gov. When searching for comments, please use the Docket ID: MARAD-2023-0163. An electronic copy of this document may also be downloaded from the Office of the Federal Register's website at www.FederalRegister.gov and the Government Publishing Office's website at www.GovInfo.gov.

Note: If you mail or hand-deliver your input, we recommend that you include your name and a mailing address, an email address, or a telephone number in the body of your document so that we can contact you if we have questions regarding your submission. If you submit your inputs by mail or hand-delivery, they must be submitted in an unbound format, no larger than 8½ by 11 inches, single-sided, suitable for copying and electronic filing.

Instructions: All submissions received must include the agency name and docket number. For detailed instructions on submitting comments and additional information on the rulemaking process, see the section entitled Public Participation.

FOR FURTHER INFORMATION CONTACT: Carolyn E. Junemann, Environmental Protection Specialist, Office of Environment and Innovation, at (202) 569-3899, or via email at META@dot.gov. You may send mail to Dr. Junemann at Department of Transportation, Maritime Administration, 1200 New Jersey Avenue SE, W25-308, Washington, DC 20590. If you have questions on viewing the Docket, call Docket Operations, telephone: (800) 647-5527.

SUPPLEMENTARY INFORMATION: Section 3543 of the James M. Inhofe National Defense Authorization Act for Fiscal Year 2023 (NDAA), codified at 46 U.S.C 50307, directs the Secretary of Transportation, through a competitive cooperative agreement, to establish a Center to support the study, research, development, assessment, and deployment of emerging marine technologies and practices related to emerging environmental challenges faced by the maritime transportation system.

Specifically, the Center is envisioned to consist of a core advisory council that partners closely with MARAD and assigns working groups to address specific areas of concern for the industry. The Center would be run by an administrative organization that acts as a secretariat to facilitate the work of the Center and its subsidiary workgroups and functions. The Secretariat would be selected through a competitive process of eligible domestic entities, preferably a nonprofit organization. The secretariat would have competencies in facilitation and administering this type of initiative. They would also preferably have familiarity with emerging marine environmental technologies, policies, and practices related to the maritime transportation system, including the use of alternative fuels and the development of both vessel and shoreside infrastructure.

The major duties of the Center and its working groups are envisioned to include:

• facilitating the development and use of clean energy and necessary infrastructure to support the deployment of clean energy on vessels of the United States;

• monitoring and assessing, on an ongoing basis, the current state of knowledge regarding emerging marine technologies in the United States;

• identifying any significant gaps in emerging marine technologies research specific to the United States maritime industry, and seeking to fill those gaps;

• conducting research, development, testing, and evaluation for equipment, technologies, and techniques related to marine environmental protection;

• providing guidance on best available technologies;

• conducting technical analysis; assisting with understanding complex regulatory requirements; and documenting best practices in the maritime industry, including training and informational webinars on solutions for the maritime industry; and

• working with academic and private sector response training centers and Domestic Maritime Workforce Training and Education Centers of Excellence to develop maritime strategies applicable to various segments of the United States maritime industry, including the inland, deep water, and coastal fleets.

Subject matter working groups will be determined by the Center's core, but could include:

• development of technologies and practices for minimizing the introduction and spread of aquatic nuisance species;

• mitigation of vessel-generated underwater noise, and emergent environmental issues as identified by the center; and

• decarbonization of the maritime fleet through development and deployment of zero and near-zero fuels, technologies, and policies.

The purpose of this Request for Information (RFI) is to seek comments and information on:

• the qualities, competencies, and costs required for the secretariat function of such a Center;

• the proposed structure and organization detailed herein; and

• suggestions and experiences with establishing this kind of secretariat, to include but not limited to lessons learned and best practices for form, function, and administration.

Funds were not appropriated, however, insights gained from this RFI will assist MARAD in the development of a structure and framework for the Center for Maritime Innovation and guide ensuing activities, should funding become available.

Public Participation

How do I submit comments?

Include the docket number in your comments to ensure that your comments are correctly filed in the Docket. We encourage you to provide concise comments; however, you may attach additional documents as necessary. There is no limit on the length of the attachments. Please submit your comments, including the attachments, following the instructions provided under the above-entitled heading ADDRESSES.

MARAD will consider all comments received before the close of business on the comment closing date indicated above under DATES. To the extent possible, MARAD will also consider comments received after that date.

For access to the docket to submit or read comments received, go to the Docket Management Facility, U.S. Department of Transportation, 1200 New Jersey Avenue SE, West Building, Room W12-140, Washington, DC 20590. The Docket Management Facility is open 9:00 a.m. to 5:00 p.m., E.T., Monday through Friday, except on Federal holidays. To review documents, read comments or to submit comments, the docket is also available online at www.regulations.gov, keyword search “MARAD-2023-0163.”

Please note that even after the comment period has closed, MARAD will continue to file relevant information in the Docket as it becomes available. Further, some people may submit late comments. Accordingly, MARAD recommends that you periodically check the Docket for new material.

Will my comments be made available to the public?

Before including your address, phone number, email address or other personal information in your comment, be aware that your entire comment, including your personal identifying information, will be made publicly available.

May I submit comments confidentially?

If you wish to submit comments under a claim of confidentiality, you should submit your complete submission, including the information you claim to be confidential business information, to the Department of Transportation, Maritime Administration, Office of Legislation and Regulations, MAR-225, W24-220, 1200 New Jersey Avenue SE, Washington, DC 20590. When you submit comments containing information claimed to be confidential information, you should include a cover letter setting forth with specificity the basis for any such claim and, if possible, a summary of your submission that can be made available to the public.

Privacy Act

Anyone can search the electronic form of all comments received into any of our dockets by the name of the individual submitting the comment (or signing the comment, if submitted on behalf of an association, business, labor union, etc.). For information on DOT's compliance with the Privacy Act, please visit www.transportation.gov/privacy.

Request for Information

MARAD seeks advice and input from the public and U.S. entities who would be stakeholders participating in the Center or with competencies described above for the desired secretariat function. Please comment specifically on the following:

1. Prospective organizations for hosting the Center, detailed as follows:

(a) Preferably U.S. nonprofits, or qualities of such an organization that could serve as a potential host for undertaking the secretariat function of such a Center as described in Section 3543(e) of the James M. Inhofe National Defense Authorization Act for Fiscal Year 2023.

2. The Center's structure and organization, detailed as follows:

(a) The Center for Maritime Innovation will foster industry partnerships and active collaboration to find solutions to the most pressing maritime environmental issues in the U.S.

(b) The Center is envisioned to consist of a central executive committee that is guided by MARAD, supported by a non-profit organization to act as a secretariat, and comprised of key stakeholders primarily from the maritime industry (such as ship owners and port operators) but may include representatives from NGOs and academia.

(c) The Center would be responsible for identifying key focus areas of environmental concern to the U.S. maritime industry and developing, deploying, and administering dedicated working groups to address those subjects.

(d) The secretariat will be responsible for recruiting the Center's committee members, in consultation with MARAD, and for organizing, facilitating, and administration of the Center. Administration tasks may include hosting and facilitating meetings and workshops, identifying key issues for consideration by the committee, and facilitating the development of focus area working groups and the terms of reference that guide their activities.

3. The Center's method of work, detailed as follows:

(a) Once focus areas are determined by the Center, it will develop dedicated working groups of experts and task them to break down a problem into components that can be further analyzed in order to develop recommendations. Experts will come from both the public and private sector and be matched to the level of need and ambition for specific projects. The central executive committee will assemble periodically to monitor the progress of the working groups and adjust their tasks and resources as needed and ensure that the work is aligned with the pace and substance of MARAD's relevant strategies. At appropriate intervals, the Center will meet to assess the overall effectiveness of the Center's work and discuss whether new focus areas and resources are needed.

4. Additional information on practical considerations that can inform implementation of the Center.

(Authority: 46 U.S.C. 50307; 49 CFR 1.93(a).)

By Order of the Maritime Administrator.
T. Mitchell Hudson, Jr.,
Secretary, Maritime Administration.

[FR Doc. 2023-16532 Filed 8-2-23; 8:45 am]

BILLING CODE 4910-81-P